DEPARTMENT OF DEFENSE

Office of the Secretary

Meeting Notice—Military Justice Review Panel

AGENCY: General Counsel of the Department of Defense, Department of Defense (DoD).

ACTION: Notice of meeting.

SUMMARY: The DoD is publishing this notice to announce that the Military Justice Review Panel will host an open meeting on October 24-25, 2023. This meeting will be held virtually.

DATES: October 24, 2023—Open to the public from 2:30 p.m. to 4:30 p.m. (EST) and October 25, 2023—Open to the public from 11:15 a.m. to 1:00 p.m. (EST).

ADDRESSES: This virtual meeting can be accessed via the following dial-in number and links:

Dial-in: +1 646 828 7666, Meeting ID: 161 535 0618 Passcode: 654321. Link: https://www.zoomgov.com/j/1615350618?pwd=NFowUHFKSVQvOUprZUFaOVd6RmxJZz09.

Meeting ID: 161 535 0618 Passcode: 654321. For those who would like to attend, please send registration information to whs.pentagon.em.mbx.mjrp@mail.mil, providing your name, email, organization (if applicable), and telephone number.

FOR FURTHER INFORMATION CONTACT: Mr. Pete L. Yob, 703-693-3857 (Voice), louis.p.yob.civ@mail.mil (Email). Mailing address is MJRP, One Liberty Center, 875 N Randolph Street, Suite 150, Arlington, Virginia 22203. The most up-to-date changes to the meeting agenda can be found on the website: https://mjrp.osd.mil.

SUPPLEMENTARY INFORMATION: Pursuant to 5521 of the National Defense Authorization Act (NDAA) for Fiscal Year (FY) 2017, as amended by § 531(k) of the FY 2018 NDAA, the Secretary of Defense established this panel to conduct independent periodic reviews and assessments of the operation of the Uniform Code of Military Justice (UCMJ). 10 U.S.C. 946. Art. 146 (effective Jan 1, 2019).

Purpose of the Meeting: Pursuant to UCMJ, Article 146, the Panel shall conduct independent periodic reviews and assessments of the operation of the UCMJ, including the review and assessment of the implementation of amendments made to the UCMJ and sentencing data. This will be the seventh meeting held by the MJRP. On Day 1, the Panel will hear from Service defense counsel. On Day 2, Panel members will hold two open sessions. The first session will be composed of Service trial counsel; and for the second open session, the Panel will receive a briefing from representatives from the Joint Service Committee on Military Justice on the recent military justice Executive Order.

Dated: October 19, 2023.
Natalie M. Ragland,
Alternate OSD Federal Register Liaison Officer, Department of Defense.

[FR Doc. 2023-23482 Filed 10-23-23; 8:45 am]

BILLING CODE 6001-FR-P